DEPARTMENT OF TRANSPORTATION

Federal Aviation Administration

14 CFR Part 39

[Docket No. FAA-2005-23334; Directorate Identifier 2005-CE-53-AD]

RIN 2120-AA64

Airworthiness Directives; General Machine—Diecron, Inc. Actuator Nut Assembly for the Right Main Landing Gear

AGENCY: Federal Aviation Administration (FAA), Department of Transportation (DOT).

ACTION: Notice of proposed rulemaking (NPRM).

SUMMARY: The FAA proposes to adopt a new airworthiness directive (AD) for General Machine—Diecron, Inc. (GMD) actuator nut assembly, part number (P/N) GMD115-810029-17 and P/N GMD115-810029-23, that are installed on certain airplanes. This proposed AD would require you to determine by maintenance records check and/or inspection whether any actuator nut assembly, P/N GMD115-810029-17 or P/N GMD115-810029-23, is installed on the right main landing gear (MLG) actuator, and, if installed, would require you to replace it with a new actuator nut assembly, P/N GMD115-810029-23B or FAA-approved equivalent P/N. This proposed AD results from several reports of failures of the actuator nut assembly, P/N GMD115-810029-17 and P/N GMD115-810029-23. We are issuing this proposed AD to prevent failure of the actuator nut assembly for the right MLG actuator, which could result in failure of the MLG. This failure could prevent the extension or retraction of the MLG.

DATES: We must receive comments on this proposed AD by April 3, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Contact General Machine—Diecron, Inc., 3131 U.S. Highway 41, Griffin, Georgia 30224, telephone: (770) 228-6200; facsimile: (770) 228-6299, for the service information identified in this proposed AD.

You may examine the comments on this proposed AD in the AD docket on the Internet at http://dms.dot.gov.

FOR FURTHER INFORMATION CONTACT: Don Buckley, Aerospace Engineer, Airframe and Propulsion Branch, ACE-117A, FAA, Atlanta Aircraft Certification Office, One Crown Center, 1895 Phoenix Boulevard, Suite 450, Atlanta, Georgia 30337-2748, telephone (770) 703-6086; fax (770) 703-6097.

SUPPLEMENTARY INFORMATION:

Comments Invited

How do I comment on this proposed AD?

We invite you to send any written relevant data, views, or arguments regarding this proposal. Send your comments to an address listed under ADDRESSES. Include the docket number, “FAA-2005-23334; Directorate Identifier 2005-CE-53-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of the DOT docket Web site, anyone can find and read the comments received into any of our dockets, including the name of the individual who sent the comment (or signed the comment on behalf of an association, business, labor union, etc.). You may review the DOT's complete Privacy Act Statement in the Federal Register published on April 11, 2000 (65 FR 19477-78) or you may visit http://dms.dot.gov.

Examining the Dockets

Where can I go to view the docket information?

You may examine the docket that contains the proposal, any comments received and any final disposition on the Internet at http://dms.dot.gov, or in person at the DOT Docket Offices between 9 a.m. and 5 p.m., Monday through Friday, except Federal holidays. The Docket Office (telephone 1-800-647-5227) is located on the plaza level of the Department of Transportation NASSIF Building at the street address stated in ADDRESSES. Comments will be available in the AD docket shortly after the Docket Management Facility receives them.

Discussion

What events have caused this proposed AD?

The FAA has received several reports of failure of the actuator nut assembly, part numbers (P/N) GMD115-810029-17 and P/N GMD115-810029-23, for the right main landing gear (MLG) actuator in airplanes not equipped with a hydraulic MLG or modified to a hydraulic MLG. One failure resulted in the MLG not extending and a “gear-up” landing.

Investigation found the separation of the threaded nut insert in the P/N GMD115-810029-17 and P/N GMD115-810029-23 MLG actuator nut assembly. The insert has internal and external threads. The external threads of the insert screw into a threaded steel tube to complete the actuator nut assembly. The internal threads of the insert interface with the Actuator Screw in the Raytheon MLG Actuator. Rotation of the MLG Actuator Screw in the right MLG Actuator transmits load to the insert which tends to unscrew the insert from the GMD Actuator Nut Assembly during the extension cycle of the MLG. If the insert separates (unscrews) from the threaded steel tube, it can prevent the actuator from extending or retracting the MLG to the locked position. The separation of the insert only occurs in the right MLG actuator.

What is the potential impact if FAA took no action?

This condition, if not corrected, could prevent the extension or retraction of the MLG.

Relevant Service Information

Is there service information that applies to this subject?

We have reviewed General Machine Diecron, Inc. Service Bulletin GM-D 32-30-01/102505, dated November 21, 2005.

What are the provisions of this service information?

The service information describes procedures for:

• Determining by maintenance records check and/or inspection whether any actuator nut assembly, P/N GMD115-810029-17 or P/N GMD115-810029-23, is installed on the right MLG actuator; and

• If any actuator nut assembly, P/N GMD115-810029-17 or P/N GMD115-810029-23, is installed, replacing it with a new P/N GMD115-810029-23B actuator nut assembly.

FAA's Determination and Requirements of the Proposed AD

Why have we determined AD action is necessary and what would this proposed AD require?

We are proposing this AD to address an unsafe condition that we determined is likely to exist or develop on other products of this same type design. The proposed AD would require you to determine by maintenance records check and/or inspection whether any actuator nut assembly, P/N GMD115-810029-17 or P/N GMD115-810029-23, is installed on the right MLG actuator, and, if installed, would require you to replace it with a new actuator nut assembly, P/N GMD115-810029-23B or FAA-approved equivalent P/N. The proposed AD would require you to use the service information described previously to perform these actions.

Differences Between the Proposed AD and Service Information

Are there differences between the requirements of this AD and what is contained in the service information?

If any actuator nut assembly, P/N GMD115-810029-17 or P/N GMD115-810029-23, is installed on the right MLG actuator, this AD would require you to replace it with a new actuator nut assembly, P/N GMD115-810029-23B or FAA-equivalent P/N. The requirements of the proposed AD, if adopted as a final rule, would take precedence over the provisions in the service information.

Costs of Compliance

How many airplanes would this proposed AD impact?

We estimate that this proposed AD affects 1,629 airplanes in the U.S. registry.

What would be the cost impact of this proposed AD on owners/operators of the affected airplanes?

We estimate the following costs to do this proposed maintenance records check and/or inspection to determine whether any actuator nut assembly, P/N GMD115-810029-17 or P/N GMD115-810029-23, is installed on the right MLG actuator:

Labor cost | Parts cost | Total cost Per airplane | Total cost on U.S. operators
1 work hour × $65 = $65 | Not Applicable | $65 | 1,629 × $65 = $105,885

We estimate the following costs to do any necessary replacements of the actuator nut assembly that would be required based on the results of this proposed inspection. We have no way of determining the number of airplanes that may need this replacement:

Labor cost | Parts cost | Total cost per airplane
4 work hours × $65 = $260 | $1,700 | $1,960

Authority for This Rulemaking

What authority does FAA have for issuing this rulemaking action?

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

Would this proposed AD impact various entities?

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

General Machine—Diecron, Inc.: Docket No. FAA-2005-23334; Directorate Identifier 2005-CE-53-AD.

When Is the Last Date I Can Submit Comments on This Proposed AD?

(a) The Federal Aviation Administration (FAA) must receive comments on this airworthiness directive (AD) action by April 3, 2006.

What Other ADs Are Affected by This Action?

(b) None.

What Airplanes Are Affected by This AD?

(c) This AD affects any actuator nut assembly, part number (P/N) GMD115-810029-17 or P/N GMD115-810029-23, for the right main landing gear (MLG) actuator installed on, but not limited to, the following aircraft that are certificated in any category and not equipped with a hydraulic MLG or modified to a hydraulic MLG.

Models | Serial Nos.
(1) F90 | LA-2 through LA-225 (except aircraft that incorporate Beech Kit No. 90-8011).
(2) 99, 99A, A99, and B99 | U-1 through U-49 and U51 through U164 (except aircraft that incorporate Beech Kit No. 99-8010-1 or factory installed hydraulic landing gear).
(3) 100 and A100 | B-1 through B-94, B-100 through B-204, and B-206 through B-247.
(4) B100 | BE-1 through BE-137.
(5) 200 | BB-2, BB-6 through BB-733, BB-735 through BB-792, BB-794 through BB-828, BB-830 through BB-853, BB-872, BB-873, BB-892, BB-893, and BB-912 (except aircraft that incorporate Beech Kit No. 101-8018).
(6) B200 | BB-734, BB-793, BB-829, BB-854 through BB-870, BB-874 through BB-891, BB-894, BB-896 through BB-911, and BB-913 through BB-1157, BB-1159 through BB-1166, and BB-1168 through BB-1192 (except aircraft that incorporate Beech Kit No. 101-8018).
(7) 200T and B200T | BT-1 through BT-30 (except aircraft that incorporate Beech Kit No. 101-8018).
(8) 200C and B200C | BL-1 through BL-72 (except aircraft that incorporate Beech Kit No. 101-8018).
(9) 200CT and B200CT | BN-1 through BN-4 (except aircraft that incorporate Beech Kit No. 101-8018).
(10) A200CT (FWC-12D) | FG-1 and FG-2 (except aircraft that incorporate Beech Kit No. 101-8018).

What Is the Unsafe Condition Presented in This AD?

(d) This AD results from several reports of failures of the actuator nut assembly, P/N GMD115-810029-17 and P/N GMD115-810029-23, on the right MLG actuator. The actions specified in this AD are intended to prevent failure of the actuator nut assembly for the right MLG actuator, which could result in failure of the MLG. This failure could prevent the extension or retraction of the MLG.

What Must I Do To Address This Problem?

(e) To address this problem, you must do the following:

Actions | Compliance | Procedures
(1) Maintenance Records Check: | Within the next 50 hours time-in-service (TIS) or 30 calendar days after the effective date of this AD, whichever occurs first, unless already done | No special procedures necessary to check the maintenance records.
(i) Check the maintenance records to determine whether the following replacements have been made: (A) Actuator nut assembly (part number (P/N) GMD115-810029-17) for the right main landing gear (MLG) actuator; and (B) Actuator nut assembly (P/N) GMD115-810029-23 for the right main landing gear (MLG) actuator (ii) The owner/operator holding at least a private pilot certificate as authorized by section 43.7 of the Federal Aviation Regulations (14 CFR 43.7) may make this check. You must make an entry into the aircraft records that shows compliance with this portion of the AD in accordance with section 43.9 of the Federal Aviation Regulations (14 CFR 43.9)
(2) If you find as a result of the check required by paragraph (e)(1)(i) of this AD that there is no record of the specified assembly replacement then inspect for any: | Within the next 50 hours time-in-service (TIS) or 30 calendar days after the effective date of this AD, whichever occurs first, unless already done | Follow General Machine Diecron, Inc. Service Bulletin GM-D 32-30-01/102505, dated November 21, 2005.
(i) Actuator nut assembly, (P/N) GMD115-810029-17, for the right main landing gear (MLG) actuator; and (ii) Actuator nut assembly, (P/N) GMD115-810029-23, for the right main landing gear (MLG) actuator (iii) You may choose to do the inspection without doing the maintenance records check
(3) If during the inspection required by paragraph (e)(2) of this AD, you find any actuator nut assembly, (P/N) GMD115-810029-17 or (P/N) GMD115-810029-23, for the right MLG actuator, replace the specific assembly with a new actuator nut assembly, (P/N) GMD115-810029-23B or FAA-approved equivalent (P/N) | Before further flight after the inspection required by paragraph (e)(2) of this AD | Follow General Machine Diecron, Inc. Service Bulletin GM-D 32-30-01/102505, dated November 21, 2005.
(4) Do not install any actuator nut assembly, (P/N) GMD115-810029-17 or (P/N) GMD115-810029-23, for the right MLG actuator | As of the effective date of this AD | Not Applicable.

May I Request an Alternative Method of Compliance?

(f) The Manager, Atlanta Aircraft Certification Office (ACO), FAA, has the authority to approve alternative methods of compliance for this AD, if requested using the procedures found in 14 CFR 39.19.

(g) For information on any already approved alternative methods of compliance or for information pertaining to this AD, contact Don Buckley, Aerospace Engineer, Airframe and Propulsion Branch, ACE-117A, FAA, Atlanta ACO, One Crown Center, 1895 Phoenix Boulevard, Suite 450, Atlanta, Georgia 30337-2748, telephone (770) 703-6086; fax (770) 703-6097.

May I Get Copies of the Documents Referenced in This AD?

(h) To get copies of the documents referenced in this AD, contact General Machine—Diecron, Inc., 3131 U.S. Highway 41, Griffin, Georgia 30224, telephone: (770) 228-6200; facsimile: (770) 228-6299. To view the AD docket, go to the Docket Management Facility; U.S. Department of Transportation, 400 Seventh Street, SW., Nassif Building, Room PL-401, Washington, DC, or on the Internet at http://dms.dot.gov. The docket number is Docket No. FAA-2005-23334; Directorate Identifier 2005-CE-53-AD.

Issued in Kansas City, Missouri, on January 30, 2006.
John R. Colomy,
Acting Manager, Small Airplane Directorate, Aircraft Certification Service.

[FR Doc. E6-1470 Filed 2-2-06; 8:45 am]

BILLING CODE 4910-13-P